ENVIRONMENTAL PROTECTION AGENCY

[OPP-2002-0202; FRL-7698-2]

Notice of Receipt of Request for an Amendment to Delete Certain Uses in a Pesticide Registration

AGENCY: Environmental Protection Agency (EPA).

ACTION: Notice.

SUMMARY: In accordance with section 6(f)(1) of the Federal Insecticide, Fungicide, and Rodenticide Act (FIFRA), as amended, EPA is issuing a notice of receipt of request for amendments by a registrant to delete certain uses in a pesticide registration. Section 6(f)(1) of FIFRA provides that a registrant of a pesticide product may at any time request that any of its pesticide registrations be amended to delete one or more uses. FIFRA further provides that, before acting on the request, EPA must publish a notice of receipt of any request in the Federal Register.

DATES: The deletions are effective on February 25, 2005, unless the Agency receives a written withdrawal request on or before February 25, 2005. The Agency will consider withdrawal requests postmarked no later than February 25, 2005.

Users of these products who desire continued use on crops or sites being deleted should contact the applicable registrant on or before February 25, 2005.

ADDRESSES: Written withdrawal requests may be submitted electronically, by mail, or through hand delivery/courier. Follow the detailed instructions as provided in Unit I. of the SUPPLEMENTARY INFORMATION. To ensure proper receipt by EPA, it is imperative that you identify docket identification (ID) number OPP-2002-0202 in the subject line on the first page of your response.

FOR FURTHER INFORMATION CONTACT: Mark T. Howard, Special Review and Reregistration Division (7508C), Office of Pesticide Programs, Environmental Protection Agency, 1200 Pennsylvania Ave., NW., Washington, DC 20460-0001; telephone number: (703) 308-8172; e-mail address:howard.markt@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established an official public docket for this action under docket identification (ID) number OPP-2002-0202. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

C. How and to Whom Do I Submit Written Withdrawal Requests?

1. Electronically—i. E-mail. E-mail your written withdrawal requests to: Mark T. Howard at howard.markt@epa.gov, Attention: Docket ID Number OPP-2002-0202.

ii. Disk or CD ROM. Written withdrawal requests on disk or CD ROM may be mailed to the address in Unit I.C.2. or delivered by hand or courier to the address in Unit I.C.3., Attention: Docket ID Number OPP-2002-0202. These electronic submissions will be accepted in WordPerfect or ASCII file format. Avoid the use of special characters and any form of encryption.

2. By mail. Send your written withdrawal requests to: Mark T. Howard, Special Review and Reregistration Division (7508C), Office of Pesticide Programs, Environmental Protection Agency, 1200 Pennsylvania Ave., NW., Washington, DC 20460-0001, Attention: Docket ID Number OPP-2002-0202.

3. By hand delivery or courier. Deliver your written withdrawal requests to: Public Information and Records Integrity Branch (PIRIB), Office of Pesticide Programs (OPP), Environmental Protection Agency, Rm. 119, Crystal Mall #2, 1801 S. Bell St., Arlington, VA, Attention: Docket ID Number OPP-2002-0202. Such deliveries are only accepted during the docket's normal hours of operation as identified in Unit I.B.1.

II. What Action is the Agency Taking?

This notice announces receipt by the Agency of an application from a registrant to delete certain uses in a pesticide registration. The registration is listed in Table 1 of this unit by registration number, product name, active ingredient, and specific uses deleted.

Table 1.—Registration With Request for Amendment to Delete Certain Uses in a Pesticide Registration
EPA Registration No. | Product Name | Active Ingredient | Uses Being Deleted
554-144 | Lindane ST 40 | Lindane | Broccoli, Brussels sprouts, cabbage, cauliflower, and radish

Users of this product who desire continued use on crops or sites being deleted should contact the applicable registrant before February 25, 2005 to discuss withdrawal of the application for amendment. This 30-day period will also permit interested members of the public to intercede with registrants prior to the Agency's approval of the deletion.

Table 2 of this unit includes the name and address of record for the registrant of the product listed in Table 1 of this unit.

Table 2.—Registrant Requesting an Amendment to Delete Certain Uses in a Pesticide Registration
EPA Company No. | Company Name and Address
554 | AGSCO Inc. P.O. Box 13458 Grand Forks, ND 58208-3458

III. What is the Agency's Authority for Taking this Action?

Section 6(f)(1) of FIFRA provides that a registrant of a pesticide product may at any time request that any of its pesticide registrations be amended to delete one or more uses. The Act further provides that, before acting on the request, EPA must publish a notice of receipt of any such request in the Federal Register. Thereafter, the Administrator may approve such a request.

IV. Procedures for Withdrawal of Request

Registrants who choose to withdraw a request for use deletion must submit the withdrawal in writing to Mark T. Howard using the instructions in Unit I.C. The Agency will consider written withdrawal requests postmarked no later than February 25, 2005.

V. Provisions for Disposition of Existing Stocks

The Agency has authorized the registrant to sell or distribute the product under the previously approved labeling for a period of 18 months after approval of the revision, unless other restrictions have been imposed, as in special review actions.

List of Subjects

Environmental protection, Pesticides and pests.

Dated: January 18, 2005.
Peter Caulkins
Acting Director, Special Review and Reregistration Division, Office of Pesticide Programs.

[FR Doc. 05-1370 Filed 1-25-05; 8:45 am]

BILLING CODE 6560-50-S